ENVIRONMENTAL PROTECTION AGENCY

40 CFR Part 300

[EPA-HQ-SFUND-2011-0066; FRL-10011-58-Region 4]

National Oil and Hazardous Substances Pollution Contingency Plan; National Priorities List: Deletion of the Red Panther Chemical Company Superfund Site

AGENCY: Environmental Protection Agency (EPA).

ACTION: Proposed rule; notice of intent.

SUMMARY: The Environmental Protection Agency (EPA) Region 4 is issuing a Notice of Intent to Delete the Red Panther Chemical Company Superfund Site (Site) located in Clarksdale, Mississippi, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Mississippi, through the Mississippi Department of Environmental Quality (MDEQ), have determined that all appropriate response actions under CERCLA have been completed. However, this deletion does not preclude future actions under Superfund.

DATES: Comments must be received by August 14, 2020.

ADDRESSES: Submit your comments, identified by Docket ID no. EPA-HQ-SFUND-2011-0066, by one of the following methods:

• “https://www.regulations.gov” https://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

• Following Centers for Disease Control and Prevention (CDC) and Office of Policy Management (OPM) guidance and specific state guidelines impacting our regional offices, the EPA's workforce has been authorized to telework to help prevent transmission of the coronavirus [COVID-19]. As a result, there is a temporary shutdown of the EPA's Docket Center and the EPA Regional Records Centers. While in this workforce telework status, there are practical limitations on the ability of staff to collect, and for Agency personnel to respond to, “hard copy” mailed queries sent directly to Agency office locations. Therefore, until the workforce is able to return to office locations, the EPA recommends that, to the extent feasible, any correspondence mailed to the Agency should also be sent via email.

• For question on this Notice and submission of comments please contact—Carter Owens, Remedial Project Manager, U.S. Environmental Protection Agency, Region 4, 61 Forsyth Street SW—MS9T25, Atlanta GA, 30303, (404) 562-8445, owens.carter@epa.gov or La'Tonya Spencer at spencer.latonya@epa.gov.

Instructions: Direct your comments to Docket ID no. EPA-HQ-SFUND-2011-0066. The EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to the EPA without going through https://www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available electronically at https://www.regulations.gov.

The EPA is temporarily suspending its Docket Center and Regional Records Centers for public visitors to reduce the risk of transmitting COVID-19. In addition, many site information repositories are closed and information in these repositories, including the deletion docket, has not been updated with hardcopy or electronic media. For further information and updates on the EPA Docket Center services, please visit us online at https://www.epa.gov/dockets.

The EPA continues to carefully and continuously monitor information from the Centers for Disease Control and Prevention (CDC), local area health departments, and our Federal partners so that we can respond rapidly as conditions change regarding COVID-19. The EPA is committed to continuing our critical work on behalf of the American public while also safeguarding the health and safety of the public and the families of the EPA employees by taking responsible measures to help prevent transmission of the coronavirus. Thank you for your cooperation and understanding.

FOR FURTHER INFORMATION CONTACT: Carter Owens, Remedial Project Manager, U.S. Environmental Protection Agency, Region 4, 61 Forsyth Street SW, Atlanta, GA 30303, (404) 562-8445, email: owens.carter@epa.gov.

SUPPLEMENTARY INFORMATION:

Table of Contents

I. Introduction

II. NPL Deletion Criteria

III. Deletion Procedures

IV. Basis for Intended Site Deletion

I. Introduction

The EPA Region 4 announces its intent to delete the Red Panther Chemical Company Superfund Site from the National Priorities List (NPL) and requests public comment on this proposed action. The NPL constitutes Appendix B of 40 CFR part 300 which is the National Oil and Hazardous Substances Pollution Contingency Plan (NCP), which the EPA promulgated pursuant to section 105 of the Comprehensive Environmental Response, Compensation and Liability Act (CERCLA) of 1980, as amended. The EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

The EPA will accept comments on the proposal to delete this site for thirty (30) days after publication of this document in the Federal Register.

Section II of this preamble explains the criteria for deleting sites from the NPL. Section III of this preamble discusses procedures that the EPA is using for this action. Section IV of this preamble discusses where to access and review information that demonstrates how the deletion criteria have been met at the Red Panther Chemical Company Superfund Site.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) The EPA consulted with the State before developing this Notice of Intent to Delete;

(2) The EPA has provided the state 30 working days for review of this action prior to publication of it today;

(3) In accordance with the criteria discussed above, the EPA has determined that no further response is appropriate;

(4) The State of Mississippi, through the Mississippi Department of Environmental Quality, has concurred with deletion of the Site from the NPL;

(5) Concurrently with the publication of this Notice of Intent to Delete in the Federal Register, a notice is being published in a major local newspaper, The Clarksdale Press Register Newspaper. The newspaper notice announces the 30-day public comment period concerning the Notice of Intent to Delete the Site from the NPL; and

(6) The EPA placed copies of documents supporting the proposed deletion in the deletion docket and made these items available for public inspection and copying at the site information repositories identified above.

If comments are received within the 30-day public comment period on this document, the EPA will evaluate and respond appropriately to the comments before making a final decision to delete. If necessary, the EPA will prepare a Responsiveness Summary to address any significant public comments received. After the public comment period, if the EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist the EPA management. Section 300.425(e)(3) of the NCP states that the deletion of a site from the NPL does not preclude eligibility for future response actions, should future conditions warrant such actions.

IV. Basis for Intended Site Deletion

The following information provides EPA's rationale for deleting the Site from the NPL:

Site Background and History

The Red Panther Chemical Company Site (CERCLIS ID: MSD000272385) is located in a mixed commercial-residential area of Clarksdale, Coahoma County, Mississippi. The Site area includes, but is not limited to, the 6.5-acre former Red Panther Facility (RPF) property, the 18th Street Neighborhood located to the west of the RPF, the vacant Industrial Parcel (IP) located south of the RPF, and the Storm Water Drainage Ditch Outfall located about 2,500 feet southwest of the RPF. The geographical coordinates of the RPF property are latitude 34°11′14.67″ North and longitude 90°33′41.85″ West. A pesticide formulation plant was operated at the RPF from 1949 to 1996. The plant formulated liquid and powdered herbicides, insecticides, and fungicides, including products containing toxaphene, aldrin, arsenic, dieldrin, and dichlorodiphenyltrichloroethane (DDT).

In 1999, the EPA conducted surface and subsurface soil sampling of the drainage ditches to the east of the property, the former onsite leaching field and septic tank, and the rail spur in front of the loading dock along the west side of the property. Samples were analyzed for metals and pesticides, and results indicated elevated levels of arsenic, organo-chlorine pesticides and their degradation by-products.

In September 2001, the EPA entered into an Administrative Settlement Agreement and Order on Consent (ASAOC) with the Site Potentially Responsible Party (PRP) group for a PRP-conducted removal action and additional characterization. The 2001 ASAOC identified the following constituents of concern (COCs) and set performance standards governing the removal action for surface and subsurface soils:

• Surface Soil: Arsenic, toxaphene, dieldrin, and total chlorinated pesticides. Performance standards were established for surface soil COCs at 39 ppm, 3 ppm, 23 ppm, and 100 ppm, respectively; and

• Sub-surface Soil: Arsenic, toxaphene, and dieldrin. Performance standards were established for sub-surface soil COCs at 220 ppm, 15 ppm, and 270 ppm, respectively.

Performance standards are not equivalent to remedial goals. Performance standards are developed as site-specific screening levels in accordance with the EPA's 1996 Soil Screening Guidance (SSG) and 2002 Supplemental Guidance for Developing Soil Screening Levels for Superfund Sites. SSG is a tool developed by the EPA to help standardize and accelerate the evaluation and cleanup of contaminated soils at sites on the NPL where future residential land use is anticipated. Generally, at sites where contaminant concentrations fall below screening levels, no further action or study is warranted under CERCLA.

In late 2002 and early 2003, surface soils, above the 2001 ASAOC performance standards, were excavated from the drainage ditches along the east side of the Site between the site property boundaries and Route 49 (Desoto Avenue). Approximately 825 tons of non-hazardous soils were disposed of off-site at the Waste Management Subtitle D landfill in Tunica Mississippi. Approximately 75 tons of hazardous soils were stockpiled onsite and secured. During the ditch remediation, additional soil characterization samples were collected from the Site. Samples collected from the northern portion of the Site had elevated levels of arsenic only and were not impacted by chlorinated pesticides. Samples collected along the railroad on the western portion of the Site had elevated levels of arsenic and chlorinated pesticides. Samples collected from the southern portion of the Site had lower levels of arsenic, but elevated levels of chlorinated pesticides.

An additional PRP-led removal action was conducted at the Site in 2005 to remove remaining impacted soils above the 2001 ASAOC performance standards. During the additional excavation work, approximately 14,500 tons of soils and 1,150 tons of concrete were excavated and disposed of off-site at the Waste Management Subtitle D landfill in Tunica Mississippi in accordance with the CERCLA Off-Site Rule. Approximately 7,500 tons of hazardous soil and 32 tons of hazardous concrete were excavated and treated off-site. The hazardous soil was split with roughly 5,500 tons being sent to the Emelle, Alabama facility for stabilization and the remaining tonnage of hazardous soils sent to the Onyx facility in Port Arthur, Texas for incineration. Additionally, 233,000 pounds of tank sludges from eight aboveground storage tanks (ASTs) were also removed and disposed off-site at the Emelle, Alabama facility. Post-excavation sampling confirmed that the 2001 ASAOC performance standards were met. Site excavations conducted in 2001, 2002, and 2005 and sampling of the 18th Street Neighborhood were summarized in the Phase II Soil Removal Report, dated October 2005. It was prepared by site PRP's and approved by the EPA in January 2006.

During the 2005 removal action, the EPA collected 31 composite samples from 30 residential yards in the 18th Street Neighborhood and four groundwater samples from active municipal water supply wells. Two of the municipal wells sampled were approximately 600 feet deep, and the other two municipal wells were approximately 1,000 feet deep. All samples were analyzed for pesticides, aluminum, arsenic, and iron. Of the 30 residences sampled, 26 samples were above background concentrations for pesticides, with dieldrin exceeding the performance standard in 11 samples and toxaphene exceeding the performance standard in four samples. Sample detections were located near the foundations of the residences and the exceedances were determined to be the result of the application of dieldrin-based termiticide, therefore further removal was not conducted at the residences as the elevated results were not considered site related. No pesticides were detected in the groundwater samples and metals were not detected at elevated concentrations in any samples. Residential sampling conducted in the 18th St. Neighborhood and groundwater samples collected from municipal water supply wells were summarized in a Removal Assessment Letter Report, dated December 2005.

In 2007, groundwater samples were collected from nine temporary monitoring wells, one onsite permanent monitoring well, and four municipal water supply wells as part of a Site Inspection. The temporary well samples were collected from between 25 and 45 feet from the top of the casing elevation, depending on depth to water. The permanent monitoring well depth was approximately 48 feet. Eight of the temporary monitoring wells were installed around the perimeter of the Site, with the ninth well being installed in the center of the Site. All well samples were analyzed for volatile organic compounds, semi-volatile organic compounds, metals (including mercury), cyanide, and pesticides; the municipal well samples were also analyzed for polychlorinated biphenyls. The groundwater at the Site had one detection of DDT at a concentration greater than the background well at temporary well TW-07. It should be noted that the groundwater sample collected from TW-07 was collected from perched water exhibiting highly elevated turbidity, and it is believed that the detection was associated with the particulate matter.

In 2010, the EPA conducted a Removal Site Evaluation (RSE) and an air deposition study. A total of 76 locations were sampled in all directions, up to a quarter mile from the Site, including the 18th Street Neighborhood. Composite soil samples were collected from 0 to 3-inches below ground surface (BGS). Pesticides were detected in all the composite samples collected. A total of 32 of the 84 samples (73 composites, 3 background composites, and 8 duplicates) exceeded three times the background concentrations. Sample results from all but one of the locations reflected concentrations below 10⁻⁵ excess cancer risk levels applicable to the detected COCs. There were four residential properties with dieldrin soil levels detected above the background level of 52 micrograms per kilogram (µg/kg), but below the level of 340 ug/kg which corresponds to 10⁻⁵ cancer risk for a residential scenario. The four residential property soil detections likely resulted from application of dieldrin-based termiticide as was determined during the 2005 removal action sampling. The air deposition study addressed the potential migration pathway from wind borne dust resulting from normal operations and/or dust from the November 1985 fire at a warehouse at the RPF. At the time, the RPF was no longer a production facility but was a warehousing operation. Statistical analysis comparing pesticide concentrations collected during the EPA's 2010 air deposition study to spatial distance from the RPF showed that concentrations seen in the 18th Street Neighborhood are unlikely to be the result of such air deposition.

A Hazardous Ranking System documentation package was prepared for the Site. The HRS process evaluates the migration and exposure pathways of contaminated site media and gives a numerical score based on the cumulative threat for exposure. For the RPF site, groundwater migration and soil exposure pathways were evaluated. The HRS process yielded a score of 39.43, with 28.5 being the threshold criteria to list a site on the NPL. The Site was proposed to the NPL on 3/10/2011 (76 FR 13113) and placed as final on the NPL on 9/16/2011 (76 FR 57662). The Site CERCLIS ID is MSD000272385.

Remedial Investigation

On September 26, 2016, the EPA entered into another ASAOC with the Red Panther PRPs to perform a Focused Remedial Investigation/Feasibility Study (FRI/FS). The primary purpose of this ASAOC was to determine the nature and extent of contamination and identify any threat to the public health, welfare, or environment caused by the release or threatened release of hazardous substances, pollutants or contaminants at or from the Site by performing a FRI.

The FRI assessed potential risks posed to residents from dermal contact or accidental ingestion of soils in residential areas or off-site drainage areas; to industrial or commercial workers from dermal contact or accidental ingestion of soils at the RPF or IP; to accidental ingestion of groundwater from the Mississippi aquifer; and to ecological receptors.

The 2018 FRI included sediment sampling, soil sampling, installation of three groundwater monitoring wells, and groundwater sampling within four main areas. Those four areas included: The RPF, a vacant IP located immediately south-southeast of the RPF, a storm sewer drainage ditch located approximately 0.5 miles southwest of the RPF, and five residential properties located west of the RPF.

A significant component of the HRS score, which led to placement of the Site on the NPL, was the elevated concentration of pesticides detected in a single monitoring well. One of the primary objectives of the FRI was to determine the nature and extent of any groundwater contamination. The FRI sampling results indicate that soil, sediment, and groundwater at the Site do not pose any unacceptable human health risks to current and future receptors that exceed the acceptable EPA risk range of 10⁻⁴ to 10⁻⁶ cancer risk. Groundwater results were less than three times the background well concentration and confirmation results for dieldrin were five times lower than the tapwater regional screening level (RSL). Soils evaluated at the RPF indicated pesticide concentrations less than the industrial risk level established by the site-specific risk assessment. Soil samples collected at 18th Street Neighborhood residential properties were all below the associated RSLs, except for samples collected near the foundations. The exceedances in the foundation samples was determined to be related to termiticide usage. Inclusion of aliquots from those foundations biased prior results obtained during prior sampling events, including the soil exposure pathway used for HRS scoring. Additionally, the groundwater sampling conducted during the FRI ruled out groundwater contamination as a human health risk, thus the EPA selected a no-further-action remedy and is proposing to delete the Site from the NPL.

In addition, the May 2020 Review of Removal Action Confirmatory Data Memorandum (Memorandum) from the Site Human Health Risk Assessor (HHRA) evaluated the data from four IP samples that would be considered surface soil for purposes of residential human exposure (no deeper than 1 foot). The data from these samples were analyzed for arsenic, dieldrin, and toxaphene. The HHRA compared the confirmatory sample data to health risk-based levels for a chronic, daily residential receptor scenario and found none of the samples had reported levels of these analytes that would pose a summed excess cancer risk exceeding 10⁻⁴, or a noncancer hazard quotient (HQ) exceeding 1. The Memorandum further stated that the same conclusion is reached even if the maximum level for each contaminant from the four sample locations is assumed for chronic residential exposure. Based upon these reported surface soil data, the Site is protective of human health and the environment and does not require use restrictions.

Cancer risk estimates from the HHRA indicate no unacceptable cancer risk is present at the IP from the potentially complete exposure pathways to the potential receptor populations. Similarly, hazard index estimates also indicate no unacceptable non-cancer hazards from the potentially complete exposure pathways to the potential receptor populations.

Removal actions conducted in 2002 and 2005 on the RPF parcels and storm water drainage ditch met established performance standards and left no hazardous substances, pollutants, or contaminants remaining on Site above levels that exceed the threshold for unlimited use and unrestricted exposure (UU/UE). Residential yards, in the 18th St. Neighborhood, sampled during the 2005 removal action and 2010 RSE showed no site-related hazardous substances, pollutants, or contaminants existed above levels for UU/UE. Subsequent sampling and data analysis presented in the 2018 FRI and May 2020 HHRA Memorandum support this conclusion.

Selected Remedy

Based upon FRI sampling results indicating that soil, sediment, and groundwater at the Site do not pose any unacceptable human health risks to current and future receptors, the EPA issued the ROD on August 21, 2019 that selected a remedy of No Further Action. The FRI confirmed that previous removal actions conducted between 2002 through 2005 addressed unacceptable risks to human health and the environment. The Administrative Record for the Red Panther Chemical Company Site is available for review at the Carnegie Public Library, located at 114 Delta Avenue, Clarksdale, Mississippi, and at the EPA Region 4 Records Center in Atlanta, Georgia. The State of Mississippi, as represented by the MDEQ, supported the No Further Action remedial alternative for the Site as protective of human health and the environment.

Institutional Controls

Per the ROD, institutional controls (ICs) are not required to restrict land or groundwater use throughout the Site. As a result of removal actions conducted at the Site between 2002 through 2005, the cleanup achieved the UU/UE threshold and does not require ICs for long-term remedy protectiveness. The RPF currently has an industrial zoning designation and is expected to remain industrial in the future. In addition to the industrial zoning, maximum surface soil concentrations for both dieldrin and toxaphene from the IP assessed in the HHRA showed acceptable risks (i.e., not exceeding 10⁻⁴ excess cancer risk or HQ of 1) for both industrial and residential receptors.

Community Involvement

The EPA has been actively engaged with the affected community and has strived to maintain a collaborative relationship with those interested residents during the FRI and the remedy selection process.

Determination That the Criteria for Deletion Have Been Met

The EPA has followed all procedures required by 40 CFR 300.425(e), Deletion from the NPL. The EPA consulted with the State of Mississippi prior to developing this Notice. The EPA determined that both the EPA and MDEQ have conducted all appropriate response actions required and that no further response action for the Site is appropriate. The EPA is publishing a notice in a major local newspaper, The Clarksdale Press Register Newspaper, to inform the public of its intent to delete the Site and how to submit comments. The EPA placed copies of documents supporting the proposed deletion in the site information repository; these documents are available for public inspection and copying.

The selected remedial action objectives and associated cleanup levels for the surface and subsurface soils are consistent with agency policy and guidance. Based on information currently available to the EPA, no further Superfund response at the Site is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1251 et seq..

Dated: June 26, 2020.
Mary Walker,
Regional Administrator Region 4.

[FR Doc. 2020-14430 Filed 7-14-20; 8:45 am]

BILLING CODE 6560-50-P